DEPARTMENT OF AGRICULTURE

Rural Utilities Service

Highwood Generating Station

AGENCY: Rural Utilities Service, USDA.

ACTION: Notice of Extension of Public Comment Period and Additional Public Hearing, Draft Environmental Impact Statement, Highwood Generating Station, Great Falls, Montana.

SUMMARY: Notice is hereby given that the Rural Utilities Service (RUS) is extending the public comment period for the Draft Environmental Impact Statement (EIS) for the Highwood Generating Station (HGS), and, as requested, is conducting an additional public hearing. The Draft EIS was prepared pursuant to the National Environmental Policy Act of 1969 (NEPA) (U.S.C. 4231 et seq.) in accordance with the Council on Environmental Quality (CEQ) regulations for implementing the procedural provisions of NEPA (40 CFR 1500-1508) and RUS regulations (7 CFR 1794). This document has been prepared jointly with the Montana Department of Environmental Quality (MDEQ).

The Draft EIS is to evaluate the potential environmental impacts of and alternatives to the Southern Montana Electric Transmission & Generation Cooperative, Inc. (SME) application for a loan guarantee to construct a 250 megawatt (MW) coal-fired power plant near Great Falls, Montana. SME is proposing to use a coal combustion technology known as circulating fluidized bed (CFB). Along with other proposed pollution controls collectively known as Best Available Control Technology (BACT), the HGS would be among the cleanest-burning coal-fired power plants currently operating in the United States. SME also proposes to construct and operate four, 1.5-MW wind turbines to generate supplemental electrical power at the preferred project location eight miles east of Great Falls.

Receipt of the Draft EIS was announced by the U. S. Environmental Protection Agency in the Federal Register on July 3, 2006 (official date June 30, 2006). Requests for extension of public comment periods may be honored per 40 CFR 1506.10. The initial 45-day public comment period was to end on August 15, 2006. With the 15-day extension, the new deadline for public comments is now August 30, 2006.

In addition to the public hearing held in Great Falls, Montana on July 27, an additional hearing will be held in Havre, Montana. The Havre public hearing will be held on August 7, 2006 at the Applied Technology Center Auditorium at MSU Northern, 300 West 11th Street, Havre, MT. An open house will be held from 5-7 p.m., with the hearing beginning at 7 p.m. The hearing will include a presentation summarizing the findings of the Draft EIS and the opportunity for attendees to submit both oral and written comments. In accordance with 40 CFR Section 1503.1, Inviting Comments, the purpose of the meeting will be to solicit comments from interested parties on the Draft EIS for the Highwood Generating Station.

DATES: Written comments on this Draft EIS will be accepted on or before August 30, 2006.

ADDRESS FOR FURTHER INFORMATION: To send comments or for more information, contact: Richard Fristik, USDA, Rural Development, Utilities Programs, 1400 Independence Avenue, Mail Stop 1571, Room 2237, Washington, DC 20250-1571, telephone (202) 720-5093, fax (202) 720-0820, or e-mail: Richard.Fristik@wdc.usda.gov.

A copy of the Draft EIS can be obtained or viewed online at http://www.usda.gov/rus/water/ees/eis.htm. The files are in a portable document format (pdf); in order to review or print the document, users need to obtain a free copy of Acrobat Reader. The Acrobat Reader can be obtained from http://www.adobe.com/prodindex/acrobat/readstep.html.

Copies of the Draft EIS will be available for public review during normal business hours at the following locations:

Montana State Library System, Attn: Roberta Gebhardt, P.O. Box 201800, Helena, MT 59620-1800, (406) 444-5393.

University of Montana at Missoula, 32 Campus Drive 59801, Mansfield Library, Missoula, MT 59812, (406) 243-6866.

Missoula Public Library, 301 East Main, Missoula, MT 59802-4799, (406) 721-2665.

Montana State University Libraries, P. O. Box 173320, Bozeman, MT 59717-3320, (406) 994-3119.

Great Falls Public Library, 301 2nd Ave North, Great Falls MT 59401-2593, (406) 453-0349.

Chouteau County Library, 1518 Main, Fort Benton, MT 59442.

Branches: Box 1247, Big Sandy, MT 59520; Box 316, Geraldine, MT 59446.

MSU-Northern Library, P. O. Box 7751, Havre, MT 59501-7751.

Havre-Hill County Library, 402 3rd St., Havre, MT 59501-3644.

Stone Child College Library, R. R. 1 Box 1082, Box Elder, MT 59521.

Belt Public Library, 70 Castner St., Belt, MT 59411-0467.

Wedsworth Memorial Library, 9-½ Front St., Cascade, MT 59421-0526.

Fort Belknap College Library and Tribal Archives, P. O. Box 159, Harlem, MT 59526.

Harlem Public Library, 37 First Ave., SE, Harlem, MT 59526.

Choteau-Teton County Library, 17 Main Ave., North, Choteau, MT 59422.

Copies of the Draft EIS may also be obtained by contacting either Richard Fristik at (202) 720-5093 (e-mail: Richard.Fristik@wdc.usda.gov) or Kathy Johnson at (406) 444-1760 (e-mail: katjohnson@mt.gov).

Dated: August 1, 2006.
Mark S. Plank,
Director, Engineering and Environmental Staff.

[FR Doc. E6-12672 Filed 8-4-06; 8:45 am]

BILLING CODE 3410-15-P